DEPARTMENT OF TRANSPORTATION

Office of the Secretary

Aviation Proceedings, Agreements Filed the Week Ending January 28, 2012

The following Agreements were filed with the Department of Transportation under the Sections 412 and 414 of the Federal Aviation Act, as amended (49 U.S.C. 1382 and 1384) and procedures governing proceedings to enforce these provisions. Answers may be filed within 21 days after the filing of the application.

Docket Number: DOT-OST-2012-0015.

Date Filed: January 27, 2012.

Parties: Members of the International Air Transport Association.

Subject:

Mail Vote 696, Resolution 024d, Currency Names, Codes, Rounding Units and Acceptability of Currencies -Denmark, Norway, Sweden (Memo 1657).

Intended Effective Date: 30 January 2012.

Renee V. Wright,
Program Manager, Docket Operations, Federal Register Liaison.

[FR Doc. 2012-3240 Filed 2-10-12; 8:45 am]

BILLING CODE 4910-9X-P